DEPARTMENT OF ENERGY

Federal Energy Regulatory Commission

Combined Notice of Filings #1

Take notice that the Commission received the following electric corporate filings:

Docket Numbers: EC16-88-000.

Applicants: The Empire District Electric Company, Liberty Utilities (Central) Co.

Description: Supplement to March 16, 2016 Application for Authorization for Disposition of Jurisdictional Facilities of The Empire District Electric Company, et al.

Filed Date: 4/8/16.

Accession Number: 20160408-5339.

Comments Due: 5 p.m. ET 4/22/16.

Take notice that the Commission received the following electric rate filings:

Docket Numbers: ER10-2265-010; ER14-1818-010; ER12-261-018; ER12-1239-007; ER12-1238-007; ER11-4308-019; ER11-4307-019; ER11-2805-018; ER11-2508-018; ER11-2108-010; ER11-2107-010; ER11-2062-019; ER10-2888-019; ER10-2385-008; ER10-2382-008; ER10-2369-007; ER10-2368-007; ER10-2361-003; ER10-2357-008; ER10-2340-012; ER10-2338-012.

Applicants: NRG Power Marketing LLC, Boston Energy Trading and Marketing LLC, Broken Bow Wind, LLC, CP Power Sales Nineteen, L.L.C., CP Power Sales Twenty, L.L.C., Crofton Bluffs Wind, LLC, Elkhorn Ridge Wind, LLC, Energy Plus Holdings LLC, GenOn Energy Management, LLC, Green Mountain Energy Company, Independence Energy Group LLC, Laredo Ridge Wind, LLC, North Community Turbines LLC, North Wind Turbines LLC, Norwalk Power LLC, Reliant Energy Northeast LLC, RRI Energy Services, LLC, San Juan Mesa Wind Project, LLC, Sleeping Bear, LLC, Taloga Wind, LLC, Wildorado Wind, LLC.

Description: Supplement to December 31, 2015 Updated Market Power Analysis for the Southwest Power Pool Region of NRG SPP MBR Sellers.

Filed Date: 4/11/16.

Accession Number: 20160411-5135.

Comments Due: 5 p.m. ET 5/2/16.

Docket Numbers: ER10-3079-010.

Applicants: Tyr Energy LLC.

Description: Supplement to December 28, 2015 Updated Market Power Analysis of Tyr Energy, LLC.

Filed Date: 4/8/16.

Accession Number: 20160408-5312.

Comments Due: 5 p.m. ET 4/29/16.

Docket Numbers: ER12-2600-001.

Applicants: American Illuminating Company, LLC.

Description: Notice of Material Change in Status of American Illuminating Company, LLC.

Filed Date: 4/11/16.

Accession Number: 20160411-5134.

Comments Due: 5 p.m. ET 5/2/16.

Docket Numbers: ER13-77-009.

Applicants: Tucson Electric Power Company.

Description: Compliance filing: Attachment K Compliance Filing to be effective 6/3/2015.

Filed Date: 4/11/16.

Accession Number: 20160411-5000.

Comments Due: 5 p.m. ET 5/2/16.

Docket Numbers: ER16-206-003.

Applicants: Midcontinent Independent System Operator, Inc., ITC Midwest LLC.

Description: Compliance filing: 2016-04-11_SA 2862 ITC Midwest-WPL FSA (G870) Compliance Filing to be effective 11/1/2015.

Filed Date: 4/11/16.

Accession Number: 20160411-5110.

Comments Due: 5 p.m. ET 5/2/16.

Docket Numbers: ER16-1375-000.

Applicants: PJM Interconnection, L.L.C., Trans-Allegheny Interstate Line Company, American Transmission Systems, Incorporated, Monongahela Power Company, West Penn Power Company, The Potomac Edison Company, Pennsylvania Electric Company.

Description: § 205(d) Rate Filing: American Transmission Systems, Inc., et al. Filing of Revised Service Agreeme to be effective 5/20/2016.

Filed Date: 4/8/16.

Accession Number: 20160408-5305.

Comments Due: 5 p.m. ET 4/29/16.

Docket Numbers: ER16-1376-000.

Applicants: Taloga Wind, LLC.

Description: § 205(d) Rate Filing: Market-Based Rate Tariff Revisions to be effective 4/12/2016.

Filed Date: 4/11/16.

Accession Number: 20160411-5199.

Comments Due: 5 p.m. ET 5/2/16.

Docket Numbers: ER16-1377-000.

Applicants: Midcontinent Independent System Operator, Inc., Otter Tail Power Company.

Description: § 205(d) Rate Filing: 2016-04-11_SA 2915 Otter Tail Power-Minnkota Power FCA (Warsaw Substation) to be effective 4/12/2016.

Filed Date: 4/11/16.

Accession Number: 20160411-5228.

Comments Due: 5 p.m. ET 5/2/16.

Docket Numbers: ER16-1378-000.

Applicants: Rocky Mountain Reserve Group.

Description: Compliance filing: Re-baseline to be effective 4/15/2016.

Filed Date: 4/11/16.

Accession Number: 20160411-5233.

Comments Due: 5 p.m. ET 5/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2016.
Nathaniel J. Davis, Sr.,
Deputy Secretary.

[FR Doc. 2016-08686 Filed 4-14-16; 8:45 am]

BILLING CODE 6717-01-P